POSTAL SERVICE

Board of Governors; Sunshine Act Meeting

Times and Dates: 2:30 p.m., Monday, October 20, 2008; and 8 a.m., Tuesday, October 21, 2008.

Place: Memphis, Tennessee, at the Peabody Hotel, 149 Union Avenue.

Status: (Closed).

Matters to be Considered:

Monday, October 20, at 2:30 p.m. (Closed)

1. Financial Matters.

2. Product Pricing.

3. Strategic Issues.

4. Personnel Matters and Compensation Issues.

5. Governors' Executive Session—Discussion of prior agenda items and Board Governance.

Tuesday, October 21, at 8 a.m. (Closed)

1. Continuation of Monday's agenda.

Contact Person for More Information: Julie S. Moore, Secretary of the Board, U.S. Postal Service, 475 L'Enfant Plaza, SW., Washington, DC 20260-1000. Telephone (202) 268-4800.

Julie S. Moore,
Secretary.

[FR Doc. E8-24534 Filed 10-10-08; 11:15 am]

BILLING CODE 7710-12-P